DEPARTMENT OF STATE

[Public Notice 6791]

Determination and Certification Under Section 7046(d) of the Department of State, Foreign Operations, and Related Programs Appropriations Act, 2008

Pursuant to the authority vested in me as Secretary of State, including under section 7046(d)(1) of the Department of State, Foreign Operations, and Related Programs Appropriations Act, 2009 (Div. H, Pub. L. 111-8), I hereby determine and certify that the Government of Colombia is meeting the conditions described in Section 7046(d)(2) of the FY 2009 SFOAA, and that I have consulted with Congress as consistent with the latter.

This Determination shall be published in the Federal Register and copies shall be transmitted to the appropriate committees of Congress.

Dated: October 16, 2009.
Hillary Rodham Clinton,
Secretary of State, Department of State.

[FR Doc. E9-25562 Filed 10-22-09; 8:45 am]

BILLING CODE 4710-29-P